DEPARTMENT OF ENERGY

Federal Energy Regulatory Commission

[Project No. 1889-085; Project No. 2485-071]

FirstLight Hydro Generating Company; Notice of Application Tendered for Filing With the Commission and Establishing Procedural Schedule for Licensing and Deadline for Submission of Final Amendments

Take notice that the following hydroelectric application has been filed with the Commission and is available for public inspection.

a. Type of Application: New Major License.

b. Project Nos.: 1889-085 and 2485-071.

c. Date Filed: April 29, 2016.

d. Applicant: FirstLight Hydro Generating Company (FirstLight).

e. Name of Project: In the final license application, FirstLight proposes to combine the existing Turners Falls Hydroelectric Project and Northfield Mountain Pumped Storage Project into a single project that would be named the Northfield Project.

f. Location: The existing projects are located on the Connecticut River in Franklin County, Massachusetts; Windham County, Vermont; and Cheshire County, New Hampshire. The project boundary includes approximately 20 acres of federal land.

g. Filed Pursuant to: Federal Power Act, 16 U.S.C. 791(a)-825(r).

h. Applicant Contact: Gus Bakas, Director-Massachusetts Hydro, FirstLight Hydro Generating Company, Northfield Mountain Station, 99 Millers Falls Road, Northfield, MA 01360; Telephone: (413) 422-5915 or gus.bakas@gdfsuezna.com.

i. FERC Contact: Brandon Cherry, (202) 502-8328 or brandon.cherry@ferc.gov.

j. This application is not ready for environmental analysis at this time.

k. The Project Description: The Northfield Project would have a total installed capacity of 1,234.452 megawatts (MW). The project's average annual generation would be approximately 1,381,913 megawatt-hours (MWh) and average annual energy consumption from pumping would be approximately 1,437,464 MWh. The power generated by the project would be transmitted to the region through the New England Independent System Operator, a regional transmission organization that coordinates the movement of wholesale electricity.

Turners Falls Development

The proposed Turners Falls Development would consist of the following existing facilities: (1) A 630-foot-long, 35-foot-high dam (Montague dam) that includes: (i) Four 120-foot-wide, 13.25-foot-high bascule gates; and (ii) a 170-foot-long fixed section with a crest elevation of 185.5 feet National Geodetic Vertical Datum of 1929 (NGVD 29); (2) a 493-foot-long, 55-foot-high dam (Gill dam) that includes: (i) Three 40-foot-wide, 39-foot-high tainter gates; and (ii) 97.3- and 207.5-foot-long fixed sections with crest elevations of 185.5 feet NGVD 29; (3) a 2,110-acre impoundment with a useable storage volume of 16,150 acre-feet between elevations 176.0 feet and 185.0 feet NGVD 29; (4) a 214-foot-long, 33-foot-high gatehouse that includes six 9-foot-wide, 10.66-foot-high gates and nine 9.5-foot-wide, 12.6-foot-high gates; (5) a 2.1-mile-long, 120- to 920-foot-wide, 17- to 30-foot-deep power canal; (6) a 700-foot-long, 100-foot-wide, 16- to 23-foot-deep branch canal; (7) the Station No.1 generating facility that includes: (i) Eight 15-foot-wide bays with trashracks with 2.625-inch clear-bar spacing; (ii) four 100-foot-long, 13.1- to 14-foot-diameter penstocks; (iii) a 134-foot-long, 64-foot-wide powerhouse that contains five turbine-generator units with a total installed capacity of 5.636 MW; (iv) four 21-foot-long, 6.5-foot-diameter draft tubes; (v) five 40- to 70-foot-long, 2.4-kilovolt (kV) generator leads that connect the turbine-generator units to a generator bus; (vi) a 110-foot-long, 2.4-kV generator lead that connects the generator bus to a substation; and (vii) a 20-foot-long, 2.4-kV generator lead that connects the substation to three transformers; (8) the Cabot Station generating facility that includes: (i) An intake structure with 217-foot-wide, 31-foot-high trashracks with 0.94-inch and 3.56-inch clear-bar spacing; (ii) six 70-foot-long penstocks; (iii) a 235-foot-long, 79.5-foot-wide powerhouse that contains six turbine-generator units with a total installed capacity of 62.016 MW; (iv) six 41-foot-long, 12.5- to 14.5-foot-diameter draft tubes; (v) six 80- to 250-foot-long, 13.8-kV generator leads that connect the turbine-generator units to a generator bus; (vi) a 60-foot-long, 13.8-kV generator lead that connects the generator bus to the powerhouse roof; and (vii) a 200-foot-long, 13.8-kV generator lead that connects to a transformer; (9) eight 13.6-foot-wide, 16.7-foot-high power canal spillway gates that are adjacent to Cabot Station; (10) a 16.2-foot-wide, 13.1-foot-high log sluice gate in the Cabot Station forebay with an 8-foot-wide weir for downstream fish passage; (11) a 200-foot-long, 7-foot-diameter drainage tunnel (Keith Drainage Tunnel) and headgate; (12) a 955-foot-long, 5-foot-diameter lower drainage tunnel; (13) an 850-foot-long, 16-foot-wide, 10-foot-high fishway (Cabot fishway); (14) a 500-foot-long, 10-foot-wide, 10-foot-high fishway (Spillway fishway); (15) a 225-foot-long, 16-foot-wide, 17.5-foot-high fishway (Gatehouse fishway); and (16) appurtenant facilities.

Northfield Mountain Pumped Storage Development

The proposed Northfield Mountain Pumped Storage Development would consist of the following existing facilities: (1) A 1-mile-long, 30-foot-wide, 30- to 140-foot-high main dam that includes: (i) An intake structure with two 7-foot-wide, 9-foot-high sluice gates and an 8-foot-diameter outlet pipe; and (ii) a 589-foot-long, 2-foot-diameter low-level outlet pipe; (2) a 425-foot-long, 25-foot-high dike (North dike); (3) a 2,800-foot-long, 45-foot-high dike (Northwest dike); (4) a 1,700-foot-long, 40-foot-long dike (West dike); (5) a 327-foot-long, 10- to 20-foot-high gravity dam; (6) an ungated 550-foot-long, 6-foot-high spillway structure with a 20-foot-long notch at an elevation of 1,005.0 feet NGVD 29; (7) a 286-acre impoundment (upper reservoir) with a useable storage volume of 12,318 acre-feet between elevations 938.0 feet and 1,000.5 feet NGVD 29; (8) a 2,110-acre impoundment (lower reservoir or Turners Falls impoundment); (9) a 1,890-foot-long, 130-foot-wide intake channel with a 63-foot-long, 9-foot-high submerged check dam and two 6-foot-wide, 2.75-foot-high sluice gates and two 18-foot-wide stoplogs; (10) a 200-foot-long, 55-foot-wide, 80-foot-high pressure shaft; (11) an 853-foot-long, 31-foot-diameter penstock; (12) two 22-foot-diameter, 100- to 150-foot-long penstocks; (13) four 340-foot-long, 9.5- to 14-foot-diameter penstocks; (14) a 328-foot-long, 70-foot-wide powerhouse that contains four reversible pump turbine-generator units with a total installed capacity of 1,166.8 MW; (15) four 25-foot-long, 11-foot-diameter draft tubes that transition to a 20-foot-long, 17-foot-diameter draft tube; (16) a 5,136-foot-long, 33-foot-wide, 31-foot-high horseshoe-shaped tailrace tunnel; (17) 35-foot-long, 40-foot-high trapezoid-shaped stoplogs with 74.3- to 99.5-foot-wide, 48-foot-high trashracks with 6-inch clear-bar spacing; (18) four 26-foot-long, 13.8-kV generator leads that connect the turbine-generator units to four transformers; (19) two 3,000-foot-long, 345-kV pipe-type cables from the transformers to the Northfield Switching Station; (20) a 650-foot-long, 15-foot-deep fixed-position fish barrier guide net; and (21) appurtenant facilities.

The existing Turners Falls Hydroelectric Project operates in peaking and run-of-river modes depending on inflows. The existing license requires maintaining the impoundment between elevations 176.0 feet and 185.0 feet NGVD 29, and releasing a continuous minimum flow of 1,433 cubic feet per second, or inflow (whichever is less), from the project. FirstLight did not propose any changes to operation of this facility in its application.

The existing Northfield Mountain Pumped Storage Project generally operates in pumping mode during low-load periods and generating mode during high-load periods. In the summer and winter, the project generally operates in a peaking mode in the morning and late afternoon. In the spring and fall, the project may operate in a peaking mode one or two times a day depending on electricity demand. The existing license requires maintaining the upper reservoir between elevations 938.0 feet and 1,000.5 feet NGVD 29 (i.e., a maximum reservoir drawdown of 62.5 feet).

FirstLight proposes to increase the maximum water surface elevation of the upper reservoir to 1,004.5 feet NGVD 29 and decrease the minimum water surface elevation of the upper reservoir to 920.0 feet NGVD 29 (i.e., a maximum reservoir drawdown of 84.5 feet) year-round.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule: In the final license application, FirstLight states that it will file an amended final license application after it completes all of the required studies in the approved study plan. On May 5, 2016, Commission staff issued a revised process plan and schedule that include milestones and dates for the filing and review of FirstLight's outstanding study reports. After FirstLight completes and files the outstanding study reports and amended final license application, Commission staff will issue a revised procedural schedule with target dates for the post-filing milestones listed below.

Milestone | Target date
Amended Final License Application | TBD
Notice of Acceptance/Notice of Ready for Environmental Analysis | TBD
Filing of recommendations, preliminary terms and conditions, and fishway prescriptions | TBD
Commission issues Draft Environmental Impact Statement (EIS) | TBD
Comments on Draft EIS | TBD
Modified terms and conditions | TBD
Commission issues Final EIS | TBD

o. Final amendments to the application must be filed with the Commission no later than 30 days from the issuance date of the notice of ready for environmental analysis.

Dated: May 13, 2016.
Nathaniel J. Davis, Sr.,
Deputy Secretary.

[FR Doc. 2016-11889 Filed 5-19-16; 8:45 am]

BILLING CODE 6717-01-P